DEPARTMENT OF THE INTERIOR

National Park Service

National Register of Historic Places; Final Notice on NHL Boundaries

The National Park Service has been working to establish boundaries for all National Historic Landmarks for which no specified boundary was identified at the time of designation and therefore are without a clear delineation of the property involved.

In accordance with the National Historic Landmark program regulations 36 CFR 65, the National Park Service notifies owners, public officials and other interested parties and gives them an opportunity to comment on the proposed boundary documentation.

The 60-day comment period for the National Historic Landmark listed below has ended and the boundary documentation has been approved. Copies of the documentation of the landmark and its boundaries, including maps, may be obtained from the National Register of Historic Places, National Register, History and Education, National Park Service, 1849 C Street, NW, Suite NC 400, Washington, DC 20240, Attention: Marilyn Harper (Phone: 202-343-9546).

Skagway and White Pass District National Historic Landmark

Skagway, Skagway-Angoon-Yakutat Census Division, Alaska Designated a Landmark on June 13, 1962

Carol D. Shull,
Chief of the National Historic Landmarks Survey and Keeper of the National Register of Historic Places National Register, History and Education.

[FR Doc. 00-21087 Filed 8-17-00; 8:45 am]

BILLING CODE 4310-70-P